DEPARTMENT OF ENERGY

Federal Energy Regulatory Commission

Combined Notice of Filings #1

Take notice that the Commission received the following electric corporate filings:

Docket Numbers: EC14-112-002.

Applicants: PPL Corporation.

Description: Motion of Talen Energy Corporation to Amend Mitigation Plan and Request for Extended Comment Period and Confidential Treatment.

Filed Date: 9/28/15.

Accession Number: 20150928-5101.

Comments Due: 5 p.m. ET 10/19/15.

Docket Numbers: EC15-213-000.

Applicants: Public Service Company of New Mexico, PNMR Development and Management Corporation.

Description: Joint App for Authorization Pursuant to Section 203 of the Federal Power Act for Acquisition of Jurisdictional Facilities and Request for Expedited Consideration & a Shortened Comment Period of Public Service Company of New Mexico, et al.

Filed Date: 9/25/15.

Accession Number: 20150925-5248.

Comments Due: 5 p.m. ET 11/24/15.

Docket Numbers: EC15-215-000.

Applicants: RPA Energy, Inc.

Description: Application for Authorization under Section 203 of the Federal Power Act and Request for Expedited Consideration and a Shortened Comment Period of RPA Energy, Inc.

Filed Date: 9/25/15.

Accession Number: 20150925-5300.

Comments Due: 5 p.m. ET 10/16/15.

Docket Numbers: EC15-218-000.

Applicants: Oncor Electric Delivery Company LLC, Ovation Acquisition I, L.L.C., Ovation Acquisition II, L.L.C.

Description: Joint Application of Oncor Electric Delivery Company LLC, et al. for Approval of the Disposition of Jurisdictional Facilities Under Section 203 of the Federal Power Act.

Filed Date: 9/30/15.

Accession Number: 20150930-5279.

Comments Due: 5 p.m. ET 10/21/15.

Take notice that the Commission received the following exempt wholesale generator filings:

Docket Numbers: EG16-1-000.

Applicants: NRG Chalk Point CT LLC.

Description: Notice of Self-Certification of Exempt Wholesale Generator Status.

Filed Date: 10/1/15.

Accession Number: 20151001-5188.

Comments Due: 5 p.m. ET 10/22/15.

Take notice that the Commission received the following electric rate filings:

Docket Numbers: ER10-2331-036; ER14-630-013; ER10-2319-028; ER10-2317-028; ER14-1468-012; ER13-1351-010; ER10-2330-035.

Applicants: J.P. Morgan Ventures Energy Corporation, AlphaGen Power LLC, BE Alabama LLC, BE CA LLC, KMC Thermo, LLC, Florida Power Development LLC, Utility Contract Funding, L.L.C.

Description: Notice of Non-Material Change in Status of the J.P. Morgan Sellers.

Filed Date: 10/1/15.

Accession Number: 20151001-5256.

Comments Due: 5 p.m. ET 10/22/15.

Docket Numbers: ER13-1939-002.

Applicants: Southwest Power Pool, Inc.

Description: Compliance filing: Order 1000 Interregional Compliance Filing for the SPP-SERTP Process to be effective 1/1/2015.

Filed Date: 10/1/15.

Accession Number: 20151001-5135.

Comments Due: 5 p.m. ET 10/22/15.

Docket Numbers: ER15-359-005.

Applicants: Samchully Power & Utilities 1 LLC.

Description: Notice of Non-Material Change In Status of Samchully Power & Utilities 1 LLC.

Filed Date: 9/30/15.

Accession Number: 20150930-5270.

Comments Due: 5 p.m. ET 10/21/15.

Docket Numbers: ER15-411-002.

Applicants: Arizona Public Service Company.

Description: Compliance filing: Rate Schedule No. 274—Planning Participation Agreement to be effective 10/1/2015.

Filed Date: 9/30/15.

Accession Number: 20150930-5235.

Comments Due: 5 p.m. ET 10/21/15.

Docket Numbers: ER15-2751-000.

Applicants: Canadian Hills Wind, LLC.

Description: Section 205(d) Rate Filing: Resubmission of Co-Tenancy and Shared Facilities Agreement to be effective 5/12/2015.

Filed Date: 9/30/15.

Accession Number: 20150930-5212.

Comments Due: 5 p.m. ET 10/21/15.

Docket Numbers: ER15-2752-000.

Applicants: California Independent System Operator Corporation.

Description: Section 205(d) Rate Filing: Interconnection Process Enhancements-Downsizing and Request for Waiver to be effective 10/14/2015.

Filed Date: 9/30/15.

Accession Number: 20150930-5224.

Comments Due: 5 p.m. ET 10/21/15.

Docket Numbers: ER15-2753-000.

Applicants: Midcontinent Independent System Operator, Inc.

Description: Section 205(d) Rate Filing: 2015-09-30_MISO-MH Seams Operating Agreement to be effective 10/1/2015.

Filed Date: 9/30/15.

Accession Number: 20150930-5230.

Comments Due: 5 p.m. ET 10/21/15.

Docket Numbers: ER15-2754-000.

Applicants: Midcontinent Independent System Operator, Inc.

Description: Section 205(d) Rate Filing: 2015-09-30_SA 1756 METC-Consumers Energy Amended GIA (G479B) to be effective 10/1/2015.

Filed Date: 9/30/15.

Accession Number: 20150930-5233.

Comments Due: 5 p.m. ET 10/21/15.

Docket Numbers: ER15-2756-000.

Applicants: NorthWestern Corporation.

Description: Notice of Termination of nine transmission service agreements with City of Groton, et al. of NorthWestern Corporation.

Filed Date: 9/30/15.

Accession Number: 20150930-5259.

Comments Due: 5 p.m. ET 10/21/15.

Docket Numbers: ER16-1-000.

Applicants: New England Power Pool Participants Committee.

Description: Section 205(d) Rate Filing: Oct 1 2015 Membership Filing to be effective 9/1/2015.

Filed Date: 10/1/15.

Accession Number: 20151001-5011.

Comments Due: 5 p.m. ET 10/22/15.

Docket Numbers: ER16-2-000.

Applicants: Louisville Gas and Electric Company.

Description: Section 205(d) Rate Filing: Ancillary Services Schedules Revision to be effective 12/1/2015.

Filed Date: 10/1/15.

Accession Number: 20151001-5100.

Comments Due: 5 p.m. ET 10/22/15.

Docket Numbers: ER16-4-000.

Applicants: NorthWestern Corporation.

Description: Section 205(d) Rate Filing: SA 745 First Rev—EPC Agreement with Express Pipeline LLC to be effective 10/2/2015.

Filed Date: 10/1/15.

Accession Number: 20151001-5142.

Comments Due: 5 p.m. ET 10/22/15.

Docket Numbers: ER16-5-000.

Applicants: AEP Texas North Company.

Description: Section 205(d) Rate Filing: TNC (WTU)-National Wind Power Limited IA to be effective 8/17/2015.

Filed Date: 10/1/15.

Accession Number: 20151001-5169.

Comments Due: 5 p.m. ET 10/22/15.

Docket Numbers: ER16-6-000.

Applicants: Southwest Power Pool, Inc.

Description: Section 205(d) Rate Filing: 1628R7 Western Farmers Electric Cooperative NITSA to be effective 9/1/2015.

Filed Date: 10/1/15.

Accession Number: 20151001-5186.

Comments Due: 5 p.m. ET 10/22/15.

Docket Numbers: ER16-7-000.

Applicants: Southwest Power Pool, Inc.

Description: Section 205(d) Rate Filing: 1166R26 Oklahoma Municipal Power Authority NITSA and NOA to be effective 9/1/2015.

Filed Date: 10/1/15.

Accession Number: 20151001-5191.

Comments Due: 5 p.m. ET 10/22/15.

Docket Numbers: ER16-8-000.

Applicants: Duke Energy Ohio, Inc.

Description: Section 205(d) Rate Filing: DEO Revised MBR Tariff to be effective 10/2/2015.

Filed Date: 10/1/15.

Accession Number: 20151001-5199.

Comments Due: 5 p.m. ET 10/22/15.

Docket Numbers: ER16-9-000.

Applicants: Portland General Electric Company.

Description: Section 205(d) Rate Filing: NTTG Funding Agreement 2016-2017 to be effective 1/1/2016.

Filed Date: 10/1/15.

Accession Number: 20151001-5266.

Comments Due: 5 p.m. ET 10/22/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2015.
Nathaniel J. Davis, Sr.,
Deputy Secretary.

[FR Doc. 2015-25514 Filed 10-6-15; 8:45 am]

BILLING CODE 6717-01-P